DEPARTMENT OF TRANSPORTATION

Federal Aviation Administration

14 CFR Part 39

[Docket No. FAA-2010-0523; Directorate Identifier 2010-CE-018-AD; Amendment 39-16407; AD 2010-17-15]

RIN 2120-AA64

Airworthiness Directives; Hawker Beechcraft Corporation (Type Certificate No. A00010WI Previously Held by Raytheon Aircraft Company) Model 390 Airplanes

AGENCY: Federal Aviation Administration (FAA), Department of Transportation (DOT).

ACTION: Final rule.

SUMMARY: We are adopting a new airworthiness directive (AD) for certain Hawker Beechcraft Corporation Model 390 airplanes. This AD requires you to inspect for installation of certain serial number (S/N) starter generators and replace the starter generator if one with an affected serial number is found. This AD results from reports that starter generators with deficient armature insulating materials may have been installed on certain airplanes. We are issuing this AD to detect and replace starter generators with defective armature insulating materials. This condition could result in the loss of operation of one or both starter generators with consequent loss of all non battery electrical power.

DATES: This AD becomes effective on September 29, 2010.

On September 29, 2010, the Director of the Federal Register approved the incorporation by reference of certain publications listed in this AD.

ADDRESSES: For service information identified in this AD, contact Hawker Beechcraft Corporation, 9709 East Central, Wichita, Kansas 67201; telephone: (316) 676-5034; fax: (316) 676-6614; Internet: https://www.hawkerbeechcraft.com/service_support/pubs/.

To view the AD docket, go to U.S. Department of Transportation, Docket Operations, M-30, West Building Ground Floor, Room W12-140, 1200 New Jersey Avenue, SE., Washington, DC 20590, or on the Internet at http://www.regulations.gov. The docket number is FAA-2010-0523; Directorate Identifier 2010-CE-018-AD.

FOR FURTHER INFORMATION CONTACT: Kevin Schwemmer, Aerospace Engineer, FAA, Wichita Aircraft Certification Office, 1801 Airport Road, Room 100, Wichita, Kansas 67209; telephone: (316) 946-4174; fax: (316) 946-4107; e-mail: kevin.schwemmer@faa.gov.

SUPPLEMENTARY INFORMATION:

Discussion

On May 14, 2010, we issued a proposal to amend part 39 of the Federal Aviation Regulations (14 CFR part 39) to include an AD that would apply to certain serial number starter generators where deficient armature insulating materials may have been installed on Hawker Beechcraft Corporation Model 390 airplanes. This proposal was published in the Federal Register as a notice of proposed rulemaking (NPRM) on May 21, 2010 (FR 75 28506). The NPRM proposed to detect and replace starter generators with deficient armature insulating materials. This condition could result in the loss of operation of one or both starter generators with consequent loss of all non battery electrical power.

Comments

We provided the public the opportunity to participate in developing this AD. We received no comments on the proposal or on the determination of the cost to the public.

Conclusion

We have carefully reviewed the available data and determined that air safety and the public interest require adopting the AD as proposed except for minor editorial corrections. We have determined that these minor corrections:

• are consistent with the intent that was proposed in the NPRM for correcting the unsafe condition; and

• do not add any additional burden upon the public than was already proposed in the NPRM.

Costs of Compliance

We estimate that this AD affects 213 airplanes in the U.S. registry.

We estimate the following costs to do the inspection:

Labor cost | Parts cost | Total cost per airplane | Total cost on U.S. operators
.5 work-hour × $85 per hour = $42.50 | Not applicable | $42.50 | $9,052.50

We estimate the following costs to do any necessary replacements that would be required based on the results of the inspection. We have no way of determining the number of airplanes that may need this replacement:

Labor cost | Parts cost | Total cost per airplane
10 work-hours (5 work-hours per side) × $85 per hour = $850 | $4,069 per side = $8,138 | $8,988

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2010-0523; Directorate Identifier 2010-CE-018-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2010-17-15 Hawker Beechcraft Corporation (Type Certificate No. A00010WI Previously Held By Raytheon Aircraft Company): Amendment 39-16407; Docket No. FAA-2010-0523; Directorate Identifier 2010-CE-018-AD.

Effective Date

(a) This AD becomes effective on September 29, 2010.

Affected ADs

(b) None.

Applicability

(c) This AD applies to Model 390 airplanes, serial numbers RB-4 through RB-257, RB-259 through RB-265, RB-268, and RB-269, that are certificated in any category.

Subject

(d) Air Transport Association of America (ATA) Code 24: Electric Power.

Unsafe Condition

(e) This AD results from reports that starter generators with deficient armature insulating materials may have been installed on certain airplanes. We are issuing this AD to detect and replace starter generators with deficient armature insulating materials. This condition could result in the loss of operation of one or both starter generators with consequent loss of all non-battery electrical power.

Compliance

(f) To address this problem, you must do the following, unless already done:

Actions | Compliance | Procedures
(1) Inspect both starter generators for a starter generator with an affected serial number. | Within the next 25 hours time-in-service (TIS) after September 29, 2010 (the effective date of this AD). | Follow Hawker Beechcraft Mandatory Service Bulletin SB 24-3963, dated May 2009; and AMETEK Advanced Industries, Inc. Mandatory Service Bulletin—Number: 2009-0414, dated April 2009.
(2) If only one suspect starter generator with an affected serial number is found on the airplane during the inspection required in paragraph (f)(1) of this AD, replace the starter generator. | Replace the starter generator at whichever of the following times occurs first after the inspection where the affected starter generator is found: (i) Within the next 200 hours TIS; (ii) The next scheduled inspection; or (iii) Within the next 6 months. | Follow Hawker Beechcraft Mandatory Service Bulletin SB 24-3963, dated May 2009; and AMETEK Advanced Industries, Inc. Mandatory Service Bulletin—Number: 2009-0414, dated April 2009.
(3) If two starter generators with an affected serial number are found during the inspection required in paragraph (f)(1) of this AD, replace both starter generators. | Replace one starter generator within the next 25 hours TIS after the inspection where the affected starter generator was found. Replace the second starter generator at whichever of the following times occurs first after the inspection where the affected starter generator is found: (A) Within the next 200 hours TIS; (B) The next scheduled inspection; or (C) Within the next 6 months. | Follow Hawker Beechcraft Mandatory Service Bulletin SB 24-3963, dated May 2009; and AMETEK Advanced Industries, Inc. Mandatory Service Bulletin—Number: 2009-0414, dated April 2009.
(4) Use the form (Figure 1 of this AD) to report the results of the inspections required in paragraph (f)(1) of this AD. The Office of Management and Budget (OMB) approved the information collection requirements contained in this regulation under the provisions of the Paperwork Reduction Act of 1980 (44 U.S.C. 3501 et seq.) and assigned OMB Control Number 2120-0056. | Within 10 days after the inspection required in paragraph (f)(1) of this AD. | Send the report to the FAA at the address specified in paragraph (g) of this AD.

FAA-2010-0523 INSPECTION REPORT
(If the inspection required in paragraph (f)(1) of this AD was done before September 29, 2010 (the effective date of this AD), this report does not need to be completed and returned to the Wichita ACO)
Airplane Model |
Airplane Serial Number |
Airplane Tachometer Hours at Time of Inspection |
Right Hand Starter Generator serial number |
Left Hand Starter Generator serial number |
Does the RH Starter Generator fall within the suspect lot? | No | If yes, replace and document replacement starter generator serial number.
Does the LH Starter Generator fall within the suspect lot? | No | If yes, replace and document replacement starter generator serial number.
If both Starter Generators serial numbers fell within the suspect lot, was only one Starter Generator replaced? | No | If yes, describe and document which starter generator needs to be replaced.
Were any other discrepancies noticed during the inspection? |
Send report to: Kevin Schwemmer, Aerospace Engineer, FAA, Wichita Aircraft Certification Office, 1801 Airport Road, Room 100, Wichita, KS 67209, fax: (316) 946-4107, e-mail: kevin.schwemmer@faa.gov.
Figure 1

Alternative Methods of Compliance (AMOCs)

(g) The Manager, Wichita Aircraft Certification Office (ACO), FAA, has the authority to approve AMOCs for this AD, if requested using the procedures found in 14 CFR 39.19. Send information to ATTN: Kevin Schwemmer, Aerospace Engineer, FAA, Wichita ACO, 1801 Airport Road, Room 100, Wichita, Kansas 67209; telephone: (316) 946-4174; fax: (316) 946-4107; e-mail: kevin.schwemmer@faa.gov. Before using any approved AMOC on any airplane to which the AMOC applies, notify your appropriate principal inspector (PI) in the FAA Flight Standards District Office (FSDO), or lacking a PI, your local FSDO.

Material Incorporated by Reference

(h) You must use Hawker Beechcraft Mandatory Service Bulletin SB 24-3963, dated May 2009; and AMETEK Advanced Industries, Inc. Mandatory Service Bulletin—Number: 2009-0414, dated April 2009, to do the actions required by this AD, unless the AD specifies otherwise.

(1) The Director of the Federal Register approved the incorporation by reference of this service information under 5 U.S.C. 552(a) and 1 CFR part 51.

(2) For service information identified in this AD, contact Hawker Beechcraft Corporation, 9709 East Central, Wichita, Kansas 67201; telephone: (316) 676-5034; fax: (316) 676-6614; Internet: https://www.hawkerbeechcraft.com/service_support/pubs/.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on August 10, 2010.
John R. Colomy,
Acting Manager, Small Airplane Directorate, Aircraft Certification Service.

[FR Doc. 2010-20490 Filed 8-24-10; 8:45 am]

BILLING CODE 4910-13-P